DEPARTMENT OF HEALTH AND HUMAN SERVICES

Administration for Children and Families

President's Committee for People With Intellectual Disabilities: Notice of Meeting

AGENCY: President's Committee for People With Intellectual Disabilities (PCPID), HHS.

ACTION: Notice of meeting.

DATES: Thursday, September 15, 2005, from 9 a.m. to 5 p.m. and Friday, September 16, 2005, from 8:30 a.m. to 11:30 a.m. The full committee meeting of the President's Committee for People with Intellectual Disabilities will be open to the public.

ADDRESSES: The meeting will be held at the Aerospace Center Office Building, Aerospace Auditorium, 6th Floor East, 901 D Street, SW., Washington, DC 20447. Individuals with disabilities who need accommodations in order to attend and participate in the meeting (i.e., interpreting services, assistive listening devices, materials in alternative format) should notify Sally Atwater at (202) 619-0634 no later than August 31, 2005. Efforts will be made to meet special requests received after that date, but availability of special needs accommodations to respond to these requests cannot be guaranteed. All meeting sites are barrier free.

Agenda: The Committee plans to discuss matters of major concern for people with intellectual disabilities: Comprehensive Health Care and Long Term Care, Dental Care, Housing and Aging of Caregivers, Emergency Preparedness and Direct Support Professional Challenges.

FOR FURTHER INFORMATION CONTACT: Sally Atwater, Executive Director, President's Committee for People with Intellectual Disabilities, Aerospace Center Office Building, Suite 701, 901 D Street, SW., Washington, DC 20447, Telephone (202) 619-0634, Fax (202) 205-9519, e-mail satwater@acf.hhs.gov.

SUPPLEMENTARY INFORMATION: The PCPID acts in an advisory capacity to the President and the Secretary of Health and Human Services on a broad range of topics relating to programs, services and supports for persons with intellectual disabilities. The Committee, by Executive Order, is responsible for evaluating the adequacy of current practices in programs, services and supports for persons with intellectual disabilities, and for reviewing legislative proposals that impact the quality of life experienced by citizens with intellectual disabilities and their families.

Dated: July 14, 2005.
Sally Atwater,
Executive Director, President's Committee for People with Intellectual Disabilities.

[FR Doc. 05-14617 Filed 7-22-05; 8:45 am]

BILLING CODE 4184-01-P